DEPARTMENT OF DEFENSE

Office of the Secretary

[Transmittal Nos. 14-31]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-31 with attached transmittal, policy justification, and Sensitivity of Technology.

Dated: July 18, 2014.
Aaron Siegel,
Alternate OSD Federal Register Liaison Officer, Department of Defense.

BILLING CODE 5001-06-P

Transmittal No. 14-31

Notice of Proposed Issuance of Letter of Offer Pursuant to Section 36(b)(1) of the Arms Export Control Act, as amended

(i) Prospective Purchaser: Government of Israel

(ii) Total Estimated Value:

Major Defense Equipment * | $522 million
Other | 22 million
TOTAL | $544 million
* as defined in Section 47(6) of the Arms Export Control Act.

(iii) Description and Quantity or Quantities of Articles or Services under Consideration for Purchase: up to 600 AIM-9X-2 Sidewinder Block II All-Up-Round Missiles, 50 CATM-9X-2 Captive Air Training Missiles, 4 Dummy Air Training Missiles, containers, missile support and test equipment, provisioning, spare and repair parts, personnel training and training equipment, publications and technical documentation, U.S. Government and contractor technical support services, and other related logistics and program support.

(iv) Military Department: Navy (AUH)

(v) Prior Related Cases: None

(vi) Sales Commission, Fee, etc., Paid, Offered, or Agreed to be Paid: None

(vii) Sensitivity of Technology Contained in the Defense Article or Defense Services Proposed to be Sold: See Annex attached.

(viii) Date Report Delivered to Congress: 14 July 2014

Policy Justification

Israel—AIM-9X Sidewinder Missiles

The Government of Israel has requested a possible sale of up to 600 AIM-9X-2 Sidewinder Block II All-Up-Round Missiles, 50 CATM-9X-2 Captive Air Training Missiles, 4 Dummy Air Training Missiles, containers, missile support and test equipment, provisioning, spare and repair parts, personnel training and training equipment, publications and technical documentation, U.S. Government and contractor technical support services, and other related logistics and program support. The estimated cost is $544 million.

The United States is committed to the security of Israel, and it is vital to U.S. national interests to assist Israel in developing and maintaining a strong and ready self-defense capability. This proposed sale is consistent with those objectives and will enable the IDF to achieve those goals.

The Israeli Air Force is modernizing its fighter aircraft to better support its own air defense needs. The proposed sale of AIM-9X-2 missiles will improve the capability of the Israeli Air Force, enhance Israeli interoperability with the U.S., and help maintain regional peace and security. Israel will have no difficulty absorbing these missiles into its armed forces.

The proposed sale of these missiles will not alter the basic military balance in the region.

The principal contractor will be Raytheon Missile Systems Company in Tucson, Arizona. There are no known offset agreements proposed in connection with this potential sale.

Implementation of this proposed sale will require travel of U.S. Government or contractor representatives to Israel on a temporary basis for program technical support and management oversight.

There will be no adverse impact on U.S. defense readiness as a result of this proposed sale.

Transmittal No. 14-31

Notice of Proposed Issuance of Letter of Offer Pursuant to Section 36(b)(1) Of the Arms Export Control Act

Annex

Item No. vii

(vii) Sensitivity of Technology:

1. The AIM-9X-2 Block II SIDEWINDER Missile represents a substantial increase in missile acquisition and kinematics performance over the AIM-9M and replaces the AIM-9X Block I Missile configuration. The missile includes a high off-bore sight seeker, enhanced countermeasure rejection capability, low drag/high angle of attack airframe and the ability to integrate the Helmet Mounted Cueing System. The software algorithms are the most sensitive portion of the AIM-9X-2 missile. A Software Improvement Program (SIP) provides for Software updates. No software source code or algorithms will be released. The missile is classified as Confidential.

2. The AIM-9X-2 will result in the transfer of sensitive technology and information. The equipment, hardware, and documentation are classified Confidential. The software and operational performance are classified Secret. The seeker/guidance control section and the target detector are Confidential and contain sensitive state-of-the-art technology. Manuals and technical documentation that are necessary or support operational use and organizational management are classified up to Secret. Performance and operating logic of the counter-countermeasures circuits are classified Secret. The hardware, software, and data identified are classified to protect vulnerabilities, design and performance parameters and similar critical information.

3. If a technologically advanced adversary were to obtain knowledge of the specific hardware and software elements, the information could be used to develop countermeasures that might reduce weapon system effectiveness or be used in the development of a system with similar advanced capabilities.

4. A determination has been made that the recipient government can provide substantially the same degree of protection for the technology being released as the U.S. Government. Support of the AIM-9X-2 Sidewinder Missile to the Government of Israel is necessary in the furtherance of U.S. foreign policy and national security objectives.

5. All defense articles and services listed in this transmittal have been authorized for release and export to the Government of Israel.

[FR Doc. 2014-17291 Filed 7-22-14; 8:45 am]

BILLING CODE 5001-06-C